INTERNATIONAL TRADE COMMISSION

[Investigation No. 337-TA-1434]

Certain Composite Intermediate Bulk Containers; Notice of Commission Decision Not To Review an Initial Determination Granting a Motion To Amend the Complaint and Notice of Investigation

AGENCY: U.S. International Trade Commission.

ACTION: Notice.

SUMMARY: Notice is hereby given that the U.S. International Trade Commission has determined not to review an initial determination (“ID”) (Order No. 12) of the presiding Chief Administrative Law Judge (“Chief ALJ”) granting an unopposed motion to amend the complaint and notice of investigation to assert additional patent claims against two respondents.

FOR FURTHER INFORMATION CONTACT: Sidney A. Rosenzweig, Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 27, 2025, the Commission instituted this investigation based on a complaint filed by Schütz Container Systems, Inc. of North Branch, New Jersey and Protechna S.A. of Fribourg, Switzerland (collectively, “Complainants”). 90 FR 8222-23 (Jan. 27, 2025). The complaint, as supplemented, alleged violations of section 337 of the Tariff Act of 1930, as amended, 19 U.S.C. 1337 (“section 337”), by reason of the infringement of certain claims of U.S. Patent Nos. 9,718,581; 8,708,150 (“the '150 patent”); 8,919,562; 8,567,626; 9,004,310; and 8,276,299. Id. The Commission's notice of investigation named the following respondents: Shandong Jinshan Jieyuan Container Co., Ltd. of Zhengjiang City, China (“Jinshan”); Zibo Jielin Plastic Pipe Manufacture Co. Ltd. of Zibo City, China (“Jielin”); Shanghai Sakura Plastic Products Co., Ltd. (d/b/a Shanghai Yinghua Plastic Products Co., LTD) of Shanghai, China (“Sakura”); and Hebei Shijiheng Plastics, Co., Ltd. of Zhongjie Huanghua City, China (“Hebei Shijiheng Plastics”). Id. The Office of Unfair Import Investigations was also named as a party in the investigation. Id.

The Commission previously terminated the investigation as to certain patent claims from the investigation based on withdrawal of the complaint. See Order No. 9 (Apr. 2, 2025), unreviewed by Notice (Apr. 22, 2025). In addition, the complaint and notice of investigation have been amended to change the address of Hebei Shijiheng Plastics. Order No. 10 (May 9, 2025), unreviewed by Notice (May 28, 2025).

On May 20, 2025, Complainants filed a motion to amend the complaint and notice of investigation to assert claims 1-3 and 5 of the '150 patent against respondent Jinshan and claims 1-3 of the '150 patent against respondent Sakura. The respondents that have appeared in the investigation (Jinshan, Jielin, and Sakura) did not oppose the motion, subject to certain concerns about the procedural schedule in view of the additional patent claims. Likewise, the Commission investigative attorney supported the motion, subject to scheduling concerns.

The Chief ALJ conducted proceedings to resolve the scheduling concerns and, on June 13, 2025, issued the subject ID pursuant to Commission Rule 210.14(b), 19 CFR 210.14(b), granting the motion to amend the complaint and notice of investigation. Order No. 12 at 3-4. The ID finds that good cause exists for the amendments because “Complainants learned of additional infringing product models manufactured by Jinshan and Sakura after filing of the complaint.” Id. at 3.

No petitions for review of the subject ID were filed.

The Commission has determined not to review the subject ID.

The Commission's vote for this determination took place on July 7, 2025.

The authority for the Commission's determination is contained in section 337 of the Tariff Act of 1930, as amended (19 U.S.C. 1337), and in Part 210 of the Commission's Rules of Practice and Procedure (19 CFR part 210).

By order of the Commission.
Issued: July 7, 2025.
Lisa Barton,
Secretary to the Commission.

[FR Doc. 2025-12783 Filed 7-9-25; 8:45 am]

BILLING CODE 7020-02-P